DEPARTMENT OF HEALTH AND HUMAN SERVICES

Centers for Disease Control and Prevention

Disease, Disability, and Injury Prevention and Control Special Emphasis Panel (SEP): Initial Review

SUMMARY: The meeting announced in this notice concerns Natural Experiments of the Impact of Population-targeted Health Policies to Prevent Diabetes and its Complications, DP15-001, initial review.

In accordance with Section 10(a)(2) of the Federal Advisory Committee Act (Pub. L. 92-463), the Centers for Disease Control and Prevention (CDC) announces the aforementioned meeting:

DATES: 11 a.m.-3 p.m., June 23, 2015 (Closed).

ADDRESSES: Teleconference.

FOR FURTHER INFORMATION CONTACT: Brenda Colley Gilbert, Ph.D., M.S.P.H., Director, Extramural Research Program Operations and Services, CDC, 4770 Buford Highway, NE., Mailstop F-80, Atlanta, Georgia 30341, Telephone:(770) 488-6295, BJC4@cdc.gov.

SUPPLEMENTARY INFORMATION:

Status: The meeting will be closed to the public in accordance with provisions set forth in Section 552b(c) (4) and (6), Title 5 U.S.C., and the Determination of the Director, Management Analysis and Services Office, CDC, pursuant to Public Law 92-463.

Matters for Discussion: The meeting will include the initial review, discussion, and evaluation of applications received in response to “Natural Experiments of the Impact of Population-targeted Health Policies to Prevent Diabetes and its Complications, DP15-001, initial review”. This meeting is being held to review one application that was not reviewed in the initial meeting on May 5-6, 2015.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-13623 Filed 6-3-15; 8:45 am]

BILLING CODE 4163-18-P